INTERNATIONAL TRADE COMMISSION

[Inv. No. 337-TA-530]

In the Matter of Certain Electric Robots and Component Parts Thereof; Notice of Commission Determination Not To Review a Final Initial Determination Finding No Violation of Section 337; Termination of the Investigation

AGENCY: U.S. International Trade Commission.

ACTION: Notice.

SUMMARY: Notice is hereby given that the U.S. International Trade Commission has determined not to review the final initial determination (“ID”) issued by the presiding administrative law judge (“ALJ”) on December 19, 2005, finding no violation of section 337 of the Tariff Act of 1930, 19 U.S.C. 1337, in the above-captioned investigation. Accordingly, the Commission has terminated the investigation with a finding of no violation of section 337.

FOR FURTHER INFORMATION CONTACT: Timothy P. Monaghan, Esq., Office of the General Counsel, U.S. International Trade Commission, 500 E Street, SW., Washington, DC 20436, telephone 202-205-3152. Copies of all nonconfidential documents filed in connection with this investigation are or will be available for inspection during official business hours (8:45 a.m. to 5:15 p.m.) in the Office of the Secretary, U.S. International Trade Commission, 500 E Street, SW., Washington, DC 20436, telephone 202-205-2000. Hearing-impaired persons are advised that information on this matter can be obtained by contacting the Commission's TDD terminal on 202-205-1810. General information concerning the Commission may also be obtained by accessing its Internet server (http://www.usitc.gov). The public record for this investigation may be viewed on the Commission's electronic docket (EDIS) at http://edis.usitc.gov.

SUPPLEMENTARY INFORMATION: This investigation was instituted by the Commission based on a complaint filed by FANUC Robotics America, Inc. (“FANUC”) of Rochester Hills, Michigan. 70 FR 2881 (January 18, 2005). The complainant alleged violations of section 337 of the Tariff Act of 1930, 19 U.S.C. 1337 (“section 337”) in the importation into the United States, the sale for importation, and the sale within the United States after importation of certain electric robots and component parts thereof by reason of infringement of claims 1-24 of U.S. Patent No. 6,477,913 (“the ‘913 patent”). The complaint and notice of investigation named Behr Systems, Inc. of Auburn Hills, Michigan, Dürr AG of Stuttgart, Germany (collectively “Dürr”), Motoman, Inc. of West Carrollton, Ohio, and Yaskawa Electric Corporation of Kitakyushu, Fukuoka, Japan (“Yaskawa”) as respondents.

On April 26, 2005, the ALJ issued an ID, Order No. 6, which terminated the investigation as to claims 3, 5, and 16 of the ‘913 patent against respondents Dürr and Behr and terminated the investigation as to claim 6 of the ‘913 patent against all respondents. On May 15, 2005, the Commission determined not to review Order No. 6.

On May 2, 2005, the ALJ issued an ID, Order No. 7, which granted complainant's motion to amend the complaint to add Dürr Systems, Inc., Dürr Systems GmbH, and Dürr Special Material Handling GmbH as respondents and clarified complainant's claims of contributory and induced infringement. On May 20, 2005, the Commission determined not to review Order No. 7.

On May 31, 2005, the ALJ issued an ID, Order No. 9, which terminated the investigation as to claims 1-5, 7-9, and 15-17 of the ‘913 patent against respondents Motoman and Yaskawa, claims 1-2, 4, 7-9, 15, and 17 against respondents Behr and Dürr, and claims 1-9 and 15-17 against newly added respondents Dürr Systems, Inc., Dürr Systems GmbH, and Dürr Special Material Handling GmbH. On June 16, 2005, the Commission determined not to review Order No. 9.

On August 23, 2005, the ALJ issued an ID, Order No. 15, which granted complainant's motion for summary determination regarding the economic prong of the domestic industry requirement of section 337. On September 12, the Commission determined not to review Order No. 15.

An evidentiary hearing was held from September 16-23, 2005.

The claims remaining at issue are claims 10-14 and 18-24 of the ‘913 patent, which claims are asserted against all respondents.

On December 19, 2005, the ALJ issued his final ID and recommended determinations on remedy and bonding. The ALJ found no violation of section 337 based on his findings that respondents' accused products do not infringe any of the asserted claims of the ‘913 patent; that the asserted claims of the ‘913 patent are not invalid; that the ‘913 patent is enforceable; and that a domestic industry exists.

On December 28, 2005, the Commission investigative attorney (“IA”), filed a request for a two-day extension of time to file his response to the petitions for review, and that request was granted by the Chairman.

On December 30, 2005, complainant FANUC filed a petition for review of the final ID, and a separate conditional petition for review of the ID. Additionally, on the same date, respondents Yaskawa, Dürr, and the IA filed petitions for review of the ID. On January 9, 2006, Yaskawa and Dürr filed responses to complainant FANUC's petitions for review, and complainant FANUC filed a response to Yaskawa, Dürr, and the IA's petitions for review. On January 11, 2006, the IA filed a response to complainant FANUC's petition for review.

On January 17, 2006, Yaskawa filed a motion to strike untimely and previously stricken arguments in the response brief of complainant FANUC regarding motor purge tests conducted by Yaskawa. The IA concurs with this motion. On January 27, 2006, FANUC filed a response to Yaskawa's motion to strike. Having considered the motion to strike and the response thereto, the Commission has determined to grant Yaskawa's motion.

Having reviewed the record in this investigation, including the parties' written submissions, the Commission has determined not to review the ALJ's final ID, thereby allowing it to become the Commission's final determination. The Commission has terminated the investigation with a finding of no violation.

This action is taken under the authority of section 337 of the Tariff Act of 1930, 19 U.S.C. 1337, and section 210.42 of the Commission's Rules of Practice and Procedure, 19 CFR 210.42.

Issued: February 3, 2006.
By order of the Commission.
Marilyn R. Abbott,
Secretary of the Commission.

[FR Doc. E6-1795 Filed 2-8-06; 8:45 am]

BILLING CODE 7020-02-P